GENERAL SERVICES ADMINISTRATION

[OCAO-2006-N01; Docket GSA 2006-0013; Sequence 1]

Proposed Best Practices Guide for Contractor Performance Data Collection and Use

AGENCY: Office of the Chief Acquisition Officer, GSA.

ACTION: Notice.

SUMMARY: The Director, Integrated Acquisition Environment Division, General Services Administration invites comments on the proposed best practices guide, Contractor Performance in the Acquisition Process, for the collection and usage of contractor performance data.

DATES: Interested parties should submit written comments to the Integrated Acquisition Environment Division, GSA on or before January 16, 2007.

ADDRESSES: Submit comments identified by OCAO-2006-N01 by any of the following methods:

• Federal eRulemaking Portal: http://www.regulations.gov. Search for any document by first selecting the proper document types and selecting “General Services Administration” as the agency of choice. At the “Keyword” prompt, type in the notice number OCAO-2006-N01 and click on the “Submit” button. You may also search for any document by clicking on the “Advanced search/document search” tab at the top of the screen, selecting from the agency field “General Services Administration”, and typing the notice number in the keyword field. Select the “Submit” button.

• Fax: 703-872-8598.

• Mail: GSA—Integrated Acquisition Environnent Division, 2011 Crystal Drive, Suite 911, ATTN: OCAO-2006-N01, Arlington VA 22202.

Instructions: Please submit comments only and cite OCAO-2006-N01 in all correspondence related to this case. All comments received will be posted without change to http://www.regulations.gov, including any personal and/or business confidential information provided.

FOR FURTHER INFORMATION CONTACT For clarification of content, contact Ms. Teresa Sorrenti at 703-872-8610. For information pertaining to status or publication schedules, contact the Regulatory Secretariat at (202) 501-4755. Please cite OCAO-2006-N01.

SUPPLEMENTARY INFORMATION:

A. Background

The enactment of the Federal Acquisition Streamlining Act (FASA) of 1994, made contractor performance information a mandatory evaluation factor for all procurements. This is an important factor in making best value decisions in the acquisition of goods and services. In order to do this, agencies moved out in different directions to share the performance data they collected individually. There was no concerted effort to share data Governmentwide. It has long been a vulnerability that Government agencies would award to a vendor who owes another part of the Government money or services, or is in the process of being debarred. This was due to the fact that information about performance was maintained at the local contracting office level.

Evaluating contractor performance is also useful as a tool to encourage outstanding performance throughout the life of a contract. Contractor performance information can leverage the use of common contracting events such as option extensions, earned value management discussions, and award fee discussions to populate a Governmentwide database and reduce the reliance on external steps and non-value added processes. As additional value, Government agencies could be encouraged to monitor performance and provide evaluations of other Government agencies performing on Memorandum of Understanding agreements and other interagency agreements. The benefit of this effort will result in a unified method of vendor evaluations.

An Office of Management and Budget (OMB) memorandum dated July 3, 2002 announced that all Federal contractor past performance information currently captured through existing tools would be centrally available on-line for use by all Federal agency contracting officials effective July 1, 2002. A Governmentwide past performance retrieval database supports the Administration's E-Government initiatives to “unify & simplify” and reduce burden by eliminating collection redundancies. Performance data is currently collected in the Past Performance Information Retrieval System (PPIRS), which is a web-enabled, Governmentwide application. Two of the collection tools have been eliminated: Past Performance Information Management System (PPIS) and Architect-Engineer Contract Administration Support System (ACAAS). Other collection systems are positioned to be turned off in the next year. However, it was determined by senior procurement executives that a lack of widespread use resulted in insufficient information in the Governmentwide shared database. A review of how to streamline the collection of data, simplify the evaluations of vendors, and improve the value of the data in the Governmentwide database was requested.

In a memorandum, OMB's Office of Federal Procurement Policy (OFPP) established a working group to re-visit the regulations, policies, and business considerations associated with contractor performance information.

During this tasking, the working group reviewed some of the thresholds and made the following recommendations:

• The contractor performance information be removed from the Federal Acquisition Regulation (FAR), Part 36 and moved to FAR Subpart 42.15 so that all of the contractor performance information is in one location in the FAR.

• Removed the reference “past” from contractor performance information. Evaluating contractor performance is encouraged throughout the life of the contract, not just a completed contract. As such, it is useful both as an evaluation factor in awards and as a tool to encourage continuous outstanding performance.

• Removed duplications in the FAR guidance.

• Clarified the guidance relating to contractor performance information.

• Revisited and discussed the different feeder and retrieval systems.

The working group has prepared proposed language for the FAR and has updated OFPP's guide “Best Practices for Collecting and Using Current and Past Performance Information” (June 2002) incorporating the Department of Defense's (DOD), Office of the Under Secretary of Defense for Acquisition, Technology & Logistics (Defense Procurement and Acquisition Policy) guide, “A Guide to Collection and Use of Past Performance Information” (Version 3 May 2003).

OFPP's current guide was a joint effort of agency procurement and program officials and representatives from the private sector. The techniques and practices used to implement the current and past performance initiatives that are discussed in the OFPP best practices guide are not mandatory regulatory guidance. They are useful examples of techniques for recording and using contractor performance to better assess contracts and to enhance the source selection process.

DOD's guide was a joint effort by members from the DOD Past Performance Integrated Product Team. The Team's purpose was to serve as a practical reference tool regarding the DOD past performance policy. It was designed to articulate the key techniques and practices for the use and collection of past performance information for use by the entire acquisition workforce in both Government and industry. It explains best practices for the use of past performance information during the periods of source selection, ongoing performance, and collection of information.

The new guide is entitled “Contractor Performance in the Acquisition Process” and can be accessed at http://www.acquisition.gov. It also is a joint effort of Federal agency and DOD procurement and program officials. In an effort to continue to solicit private sector input, it is distributed for public comment. This guide is designed to help agencies know their role in addressing and using contractor performance information. It addresses the types of performance information that exist, resources for finding the data, and standards to employ. It discusses best use of performance data throughout the acquisition process, from the pre-award and planning phase, through source selection, and into contract evaluation.

The proposed FAR rule reflecting the findings of this tasking is currently being processed by the FAR team and will be issued for comment at a later date.

Dated: November 7, 2006.
Teresa Sorrenti,
Director, Office of Acquisition Systems.

[FR Doc. E6-19392 Filed 11-15-06; 8:45 am]

BILLING CODE 6820-61-S